DEPARTMENT OF THE INTERIOR

Bureau of Land Management

[LLCAC09000 L14300000.ET0000; CACA 51408]

Notice of Public Meeting for Proposed Withdrawal

AGENCY: Bureau of Land Management, Interior.

ACTION: Notice of public meeting.

SUMMARY: A Notice was published in the Federal Register on August 3, 2010, temporarily segregating approximately 28,953 acres of public land within the Clear Creek Management Area (CCMA) from location and entry under the United States mining laws for up to 2 years, while various studies and analyses are made to support a final decision on the withdrawal application. The Secretary of the Interior proposes to withdraw for a period of 20 years these lands located in San Benito and Fresno Counties, on behalf of the Bureau of Land Management (BLM), to limit impacts to public safety and human health from naturally occurring asbestos and past mining activities. In addition, approximately 3,763 acres of non-Federal lands are located inside of the proposed withdrawal area, and if those lands should be acquired by or returned to the United States by any means, they would also be included in the proposed withdrawal. Notice is hereby given, that a public meeting will be held in accordance with the regulations set forth in 43 CFR 2310.3-1. At this meeting, the focus will be on explaining the process of withdrawing public land from location and entry under the United States mining laws.

DATES: The meeting will be held April 12, 2011 in Hollister, CA and will begin at 6 p.m. at the Hollister Bureau of Land Management (BLM) Field Office, 20 Hamilton Court, Hollister, CA 95023.

FOR FURTHER INFORMATION CONTACT: Christine Sloand, Realty Specialist, Bureau of Land Management, 20 Hamilton Court, Hollister, CA 95023. Telephone (831) 630-5022 or e-mail christine_sloand@blm.gov.

SUPPLEMENTARY INFORMATION: The BLM ordered the temporary closure of 31,000 acres of public lands in the CCMA on May 1, 2008, based on the results of the Environmental Protection Agency's (EPA) CCMA Asbestos Exposure and Human Health Risk Assessment. Using activity-based air sampling methods, the EPA concluded that visiting the CCMA more than once per year can put adults and children above the EPA's acceptable risk range for exposure to carcinogens. The applicant for the proposed withdrawal is the BLM at the address stated above. The petition/application requests the Assistant Secretary for Land and Minerals Management to withdraw, for a period of 20 years and subject to valid existing rights, those lands identified in the afore-mentioned “Notice of Proposed Withdrawal.” In the Federal Register notice that was published on 08/03/2010, Notice of Proposed Withdrawal and Opportunity for Public Meeting; California, it was stated that an opportunity for a public meeting would be afforded in connection with the proposed withdrawal. This meeting is open to the public. The public will have the opportunity to bring forth issues relating to the withdrawal action.

Authority: 43 CFR 2310.3-1(a) and (c).

Dated: March 2, 2011.
Kathryn Hardy,
Central California District Manager.

[FR Doc. 2011-5300 Filed 3-8-11; 8:45 am]

BILLING CODE 4310-40-P